DEPARTMENT OF THE INTERIOR

Bureau of Land Management

[14X LLORB00000.L17110000.PH0000.LXSS020H0000; HAG14-0152]

Notice of Public Meeting

AGENCY: Bureau of Land Management, Interior.

ACTION: Notice of Public Meeting.

SUMMARY: In accordance with the Federal Land Policy and Management Act and the Federal Advisory Committee Act of 1972, and the U.S. Department of the Interior, Bureau of Land Management (BLM), the Steens Mountain Advisory Council (SMAC) will meet as indicated below:

DATES: July 17-18, 2014, 8:30 a.m. to 4 p.m. each day, at the Frenchglen School, 39235 Oregon 205, in Frenchglen, Oregon. Daily sessions may end early if all business items are accomplished ahead of schedule.

FOR FURTHER INFORMATION CONTACT: Tara Martinak, Public Affairs Specialist, BLM Burns District Office, 28910 Highway 20 West, Hines, Oregon 97738, (541) 573-4519, or email tmartina@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The SMAC was initiated August 14, 2001, pursuant to the Steens Mountain Cooperative Management and Protection Act (CMPA) of 2000 (Pub. L. 106-399). The SMAC provides representative counsel and advice to the BLM regarding new and unique approaches to management of the land within the bounds of the Steens Mountain CMPA; recommending cooperative programs and incentives for landscape management that meet human needs, and the maintenance and improvement of the ecological and economic integrity of the area. Tentative agenda items for the July 17-18 sesson include a field tour to and discussion regarding the Page Springs Weir; a possible field tour to the Andle Creek basin area; a discussion on managing wildfire for multiple objectives; and regular business items such as approving the previous meeting's minutes, member round-table, the Designated Federal Official's update and planning the next meeting's agenda. A public comment period will be available each day of each meeting, excluding sessions that are entirely in the field for tour purposes. The public is welcome to attend all sessions, including field tours. Unless otherwise approved by the SMAC Chair, the public comment period will last no longer than 30 minutes, and each speaker may address the SMAC for a maximum of five minutes.

Before including your address, phone number, email address, or other personal identifying information in your comments, please be aware that your entire comment—including your personal identifying information—may be made publicly available at any time. While you can ask us in your comment to withhold your personal identifying information from public review, we cannot guarantee that we will be able to do so.

Brendan Cain,
Burns District Manager.

[FR Doc. 2014-15887 Filed 7-7-14; 8:45 am]

BILLING CODE 4310-33-P